DEPARTMENT OF JUSTICE

Antitrust Division

Notice Pursuant to the National Cooperative Research and Production Act of 1993—Space Enterprise Consortium

Notice is hereby given that, on November 8, 2018, pursuant to Section 6(a) of the National Cooperative Research and Production Act of 1993, 15 U.S.C. 4301 et seq. (“the Act”), Space Enterprise Consortium (“SpEC”) has filed written notifications simultaneously with the Attorney General and the Federal Trade Commission disclosing changes in its membership. The notifications were filed for the purpose of extending the Act's provisions limiting the recovery of antitrust plaintiffs to actual damages under specified circumstances. Specifically, Benchmark Space Systems, Inc., South Burlington, VT; Teledyne Scientific & Imaging LLC, Thousand Oaks, CA; Mimyr, LLC, Torrance, CA; R2 Space, Inc., Fairfax, VA; Sechan Electronics, Inc., Lititz, PA; Arkham Technology, Limited, Irvine, CA; Aegis Technologies Group, Inc., Huntsville, AL; Rockwell Collins, Inc., Cedar Rapids, IA; Toyon Research Corporation, Goleta, CA; ELCOMM, LLC, Acworth, GA; Business Integra Technology Solutions, Inc., Bethesda, MD; Astra Space, Inc., Alameda, CA; Disruptive Technology Associates, Ltd., Phoenix, AZ; SpaceNav, LLC, Boulder, CO; Oceaneering International, Inc., Houston, TX; Torch Technologies, Inc., Huntsville, AL; KinetX, Inc., Tempe, AZ; IAI, LLC, Chantilly, VA; CACI NSS, Inc., Colorado Springs, CO; Teledyne Brown Engineering, Inc., Huntsville, AL; Airbus OneWeb Satellites LLC, Cocoa, FL; Knight Sky, LLC, Frederick, MD; Interstate Electronics Corporation, Anaheim, CA; Crean & Associates, Lakeway, TX; AS and D, Inc., Beltsville, MD; ISYS Incorporated, Littleton, CO; Peraton Incorporated, Herndon, VA; Slingshot Aerospace, Inc., El Segundo, CA; Millennium Engineering and Integration Company, Arlington, VA; Vulcan Wireless, Inc., Carlsbad, CA; Delta Solutions & Strategies, LLC, Colorado Springs, CO; Oewaves, Inc., Pasadena, CA; T2S, LLC, Belcamp, MD; Lucid Circuit, Inc., Santa Monica, CA; Arete Associates, Northridge, CA; Bluestaq, Colorado Springs, CO; DRS Networking & Imaging Systems, LLC, Dallas, TX; LeoLabs, Inc., Menlo Park, CA; Microwave Photonics Systems, Inc., West Chester, PA; Astrapi Corporation, Dallas, TX; and SA Photonics, Los Gatos, CA, have been added as parties to this venture.

Also, Blacknight Cybersecurity International, Inc., Redmond, VA; CMA Technologies, Orlando, FL; and ATS-MER, LLC, Tuscon, AZ have withdrawn as parties to this venture.

No other changes have been made in either the membership or planned activity of the group research project. Membership in this group research project remains open, and SpEC intends to file additional written notifications disclosing all changes in membership.

On August 23, 2018, SpEC filed its original notification pursuant to Section 6(a) of the Act. The Department of Justice published a notice in the Federal Register pursuant to Section 6(b) of the Act on October 2, 2018 (83 FR 49576).

Suzanne Morris,
Chief, Premerger and Division Statistics Unit, Antitrust Division.

[FR Doc. 2018-26398 Filed 12-4-18; 8:45 am]

BILLING CODE 4410-11-P